DEPARTMENT OF COMMERCE

National Oceanic and Atmospheric Administration

[Docket No. 0907081109-0060-04]

RIN 0648-ZC10

NOAA Great Lakes Habitat Restoration Program Project Grants under the Great Lakes Restoration Initiative; Correction

AGENCY: National Marine Fisheries Service (NMFS), National Oceanic and Atmospheric Administration (NOAA), Department of Commerce.

ACTION: Notice of funding availability; Date correction.

SUMMARY: This notice corrects an error contained in the notice published in the Federal Register on January 19, 2010. That notice announced the NOAA Great Lakes Habitat Restoration Program Project Grants competition and contained an incorrect date for postmark of hard copy applications.

DATES: Hard copy applications must be postmarked, or provided to a delivery service and documented with a receipt, by 11:59 p.m. EST on February 16, 2010. Hard copy applications postmarked or provided to a delivery service after 11:59 p.m. EST February 16, 2010 will not be considered for funding. Electronic applications must be submitted through www.grants.gov by 11:59 p.m. EST on February 16, 2010.

ADDRESSES: NOAA Restoration Center (F/HC3) NOAA Fisheries, Office of Habitat Conservation, 1315 East West Highway, Rm. 14730, Silver Spring, MD 20910 Attn: Great Lakes Habitat Restoration Project Applications.

FOR FURTHER INFORMATION CONTACT: For further information contact Jenni Wallace at (301) 713—0174 ext. 183, or by e-mail at Jenni.Wallace@noaa.gov.

SUPPLEMENTARY INFORMATION: On January 19, 2010, the NOAA Great Lakes Habitat Restoration Program Project Grants announced its solicitation for applications under the Great Lakes Restoration Initiative in the NOAA Notice of Availability of Grant Funds for Fiscal Year 2010, published in the Federal Register (75 FR 3101). That announcement listed an incorrect deadline for postmarking or receipt by delivery service of hard copy mailings. The correct deadline for postmarking or receipt by delivery service of a hard copy application is 11:59 p.m. EST on February 16, 2010. The deadline for electronic submissions remains unchanged and continues to be 11:59 p.m. EST on February 16, 2010.

All other information and requirements as published in the January 19, 2010 notice remain unchanged.

Intergovernmental review: Applications submitted by state and local governments are subject to the provisions of Executive Order 12372, “Intergovernmental Review of Federal Programs.” Any applicant submitting an application for funding is required to complete item 16 on SF-424 regarding clearance by the State Single Point of Contact (SPOC) established as a result of EO 12372. To find out and comply with a State's process under EO 12372, the names, addresses and phone numbers of participating SPOCs are listed in the Office of Management and Budget's home page at: http://www.whitehouse.gov/omb/grants/spoc.html

Limitation of liability: In no event will NOAA or the Department of Commerce be responsible for proposal preparation costs if these programs fail to receive funding or are cancelled because of other agency priorities. Publication of this announcement does not oblige NOAA to award any specific project or to obligate any available funds.

National Environmental Policy Act (NEPA): NOAA must analyze the potential environmental impacts, as required by the National Environmental Policy Act (NEPA), for applicant projects or proposals which are seeking NOAA federal funding opportunities. Detailed information on NOAA compliance with NEPA can be found at the following NOAA NEPA website: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce pre-award notification requirements for grants and cooperative agreements: The Department of Commerce Pre-Award Notification Requirements for Grants and Cooperative Agreements contained in the Federal Register notice of February 11, 2008 (73 FR 7696), are applicable to this solicitation.

Paperwork Reduction Act: This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001. Notwithstanding any other provision of law, no person is required to, nor shall a person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/Regulatory Flexibility Act: Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: February 4, 2010.
Tammy L. Journet,
Deputy Director, Acquisition and Grants Office, Contracting Officer, National Oceanic and Atmospheric Administration.

[FR Doc. 2010-2805 Filed 2-8-10; 8:45 am]

BILLING CODE 3510-12-S